DEPARTMENT OF DEFENSE

Office of the Secretary

[Transmittal Nos. 09-18]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated 21 July 1996.

FOR FURTHER INFORMATION CONTACT: Ms. B. English, DSCA/DBO/CFM, (703) 601-3740.

The following is a copy of a letter to the Speaker of the House of Representatives, Transmittals 09-18 with attached transmittal, and policy justification.

Dated: March 20, 2009.
Patricia L. Toppings,
OSD Federal Register, Liaison Officer, Department of Defense.

Defense Security Cooperation Agency

201 12th Street South, Ste 203

Arlington, VA 22202-5408

Mar 13 2009.

The Honorable Nancy Pelosi

Speaker of the House of Representatives,

Washington, DC 20515-6501

Dear Madam Speaker: Pursuant to the reporting requirements of Section 36(b)(1) of the Arms Export Control Act, as amended, we are forwarding herewith Transmittal No. 09-18, concerning the Department of the Army's proposed Letter(s) of Offer and Acceptance to Mexico for defense articles and services estimated to cost $93 million. After this letter is delivered to your office, we plan to issue a press statement to notify the public of this proposed sale.

Sincerely,

Jeanne L. Farmer,

Acting Director.

Enclosures:

1. Transmittal

2. Policy Justification

Same ltr to:

House

Committee on Foreign Affairs

Committee on Armed Services

Committee on Appropriations

Senate

Committee on Foreign Relations

Committee on Armed Services

Committee on Appropriations

BILLING CODE 5001-06-M

[FR Doc. E9-7165 Filed 3-31-09; 8:45 am]

BILLING CODE 5001-06-C